NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by August 5, 2009. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows:

1. Applicant: Permit Application No. 2010-003, Wayne Z. Trivelpiece, 3333 Torrey Pines, North, La Jolla, CA 92037.

Activity for Which Permit Is Requested: Enter Antarctic Specially Protected Areas. The applicant plans to enter Western Shore of Admiralty Bay, King George Island (ASPA 128) to access their summer only field camp of Copacabana to conduct research on seabirds. The applicant will continue their study of the behavioral ecology and population biology of the Adelie, Gentoo and chinstrap penguins and the interactions among these species and their principal avian predators: Skuas, sheathbills, and giant petrels. The study includes banding Adelie and Gentoo penguin chicks, apply radio transmitters (Txs), satellite tags (PTTs), and time-depth recorders (TDRs), conduct stomach pumping, blood collection, as well as data collection on egg sizes. The applicant also plans to conduct breeding and banded skua surveys at Lion's Rump (ASPA 151), when conditions and ship schedules allow.

Location: Western Shore of Admiralty Bay, (ASPA 128) and Lion's Rump (ASPA 151), King George Island.

Dates: October 01, 2009 to August 31, 2010.

2. Applicant: Permit Application No. 2010-005, Scott Borg, Director, Division of Antarctic Sciences, Office of Polar Programs, National Science Foundation, 4201 Wilson Boulevard, Arlington, VA 22230.

Activity for Which Permit Is Requested: Enter Antarctic Specially Protected Areas. Principal Investigators and their teams plan to enter Arrival Heights (ASPA 122) to work on projects that include, but are not limited to operation of an ELF/VLF receiver, riometer and magnetometer for studies of the earth's magnetic field and ionosphere, high latitude neutral mesospheric and thermospheric dynamics and thermodynamics, UV monitoring, aerosols investigations, and pollution surveys. In addition, Crary Science and Engineering Center Research Associate(s) will need to access the site daily for equipment monitoring, data acquisition, calibrations, and repairs. Official scientific visitors may enter the site for educational and/or oversight purposes. Personnel from the Facilities Engineering and Maintenance Center and other support departments may need to be called upon to perform inspections, maintenance or repair functions at the facilities within the ASPA. Other personnel will need to enter APSA 122 to monitor and maintain or repair weather equipment within the site. OPP Division Directors and Program managers may need to enter the site for oversight purposes. Antarctic Environmental Enforcement Officers may enter the site to observe and determine whether modifications to the Management Plan or the USAP implementing procedures are warranted.

Location: Arrival Heights, Ross Island (ASPA 122).

Dates: October 01, 2009 to September 30, 2014.

3. Applicant: Permit Application No. 2010-006, Mahlon C. Kennicutt, II, Professor of Oceanography, Department of Oceanography, Eller Oceanography & Meteorology Bldg., Rm. 608, 3146 Texas A&M University, College Station, TX 77843-1112.

Activity for Which Permit Is Requested: Enter Antarctic Specially Protected Areas. The applicant plans to enter Arrival Heights (ASPA 122) and Hut Point (ASPA 158) to collect soil and permafrost samples as part of the ongoing environmental monitoring program. Samples will also be collected from Cape Bird (ASPA 116) as a reference control area for their study of the temporal and spatial scales of various types of disturbance in and around McMurdo Station, Antarctica.

Location: Cape Bird (ASPA 116), Arrival Heights (ASPA 122) and Hut Point (ASPA 158).

Dates: November 17, 2009 to December 31, 2009.

Nadene G. Kennedy,
Permit Officer, Office of Polar Programs.

[FR Doc. E9-15933 Filed 7-2-09; 8:45 am]

BILLING CODE 7555-01-P